DEPARTMENT OF ENERGY

Federal Energy Regulatory Commission

Combined Notice of Filings #1

Take notice that the Commission received the following electric rate filings:

Docket Numbers: ER10-2759-007; ER10-2732-014; ER10-2733-014; ER10-2734-014; ER10-2736-014; ER10-2737-014; ER10-2741-014; ER10-2749-014; ER10-2752-014; ER12-2492-010; ER12-2493-010; ER12-2494-010; ER12-2495-010; ER12-2496-010; ER16-2455-004; ER16-2456-004; ER16-2457-004; ER16-2458-004; ER16-2459-004; ER14-264-004; ER10-2631-007; ER10-1437-007; ER13-815-005.

Applicants: Bridgeport Energy LLC, Emera Energy Services Inc., Emera Energy U.S. Subsidiary No. 1, Inc., Emera Energy U.S. Subsidiary No. 2, Inc., Emera Energy Services Subsidiary No. 1 LLC, Emera Energy Services Subsidiary No. 2 LLC, Emera Energy Services Subsidiary No. 3 LLC, Emera Energy Services Subsidiary No. 4 LLC, Emera Energy Services Subsidiary No. 5 LLC, Emera Energy Services Subsidiary No. 6 LLC, Emera Energy Services Subsidiary No. 7 LLC, Emera Energy Services Subsidiary No. 8 LLC, Emera Energy Services Subsidiary No. 9 LLC, Emera Energy Services Subsidiary No. 10 LLC, Emera Energy Services Subsidiary No. 11 LLC, Emera Energy Services Subsidiary No. 12 LLC, Emera Energy Services Subsidiary No. 13 LLC, Emera Energy Services Subsidiary No. 14 LLC, Emera Energy Services Subsidiary No. 15 LLC, Emera Maine, Rumford Power Inc., Tampa Electric Company, Tiverton Power LLC.

Description: Notice of Change in Status of the Emera Entities.

Filed Date: 1/30/18.

Accession Number: 20180130-5224.

Comments Due: 5 p.m. ET 2/20/18.

Docket Numbers: ER10-2984-041.

Applicants: Merrill Lynch Commodities, Inc.

Description: Notice of Non-Material Change in Status of Merrill Lynch Commodities, Inc.

Filed Date: 1/29/18.

Accession Number: 20180129-5347.

Comments Due: 5 p.m. ET 2/20/18.

Docket Numbers: ER18-136-002.

Applicants: Midcontinent Independent System Operator, Inc.

Description: Tariff Amendment: 2018-01-29 Deficiency Response re Rev to MISO-PJM JOA for congestion overlap to be effective 12/31/9998.

Filed Date: 1/29/18.

Accession Number: 20180129-5344.

Comments Due: 5 p.m. ET 2/20/18.

Docket Numbers: ER18-137-002.

Applicants: PJM Interconnection, L.L.C.

Description: Tariff Amendment: Response to Deficiency Letter Issued December 28, 2017 in Docket No. ER18-137 to be effective 12/31/9998.

Filed Date: 1/29/18.

Accession Number: 20180129-5345.

Comments Due: 5 p.m. ET 2/20/18.

Docket Numbers: ER18-727-000.

Applicants: Southwest Power Pool, Inc.

Description: § 205(d) Rate Filing: Tariff Revisions to Reflect Merger of ETEC and Tex-La to be effective 4/1/2018.

Filed Date: 1/29/18.

Accession Number: 20180129-5310.

Comments Due: 5 p.m. ET 2/20/18.

Docket Numbers: ER18-728-000.

Applicants: California Independent System Operator Corporation.

Description: § 205(d) Rate Filing: 2018-01-29 Resource Adequacy Availability Incentive Mechanism Amendment to be effective 4/1/2018.

Filed Date: 1/29/18.

Accession Number: 20180129-5336.

Comments Due: 5 p.m. ET 2/20/18.

Docket Numbers: ER18-729-000.

Applicants: Entergy Mississippi, Inc.

Description: Notice of Cancellation of Attala Interconnection and Service Charge Agreement of Entergy Mississippi, Inc.

Filed Date: 1/29/18.

Accession Number: 20180129-5350.

Comments Due: 5 p.m. ET 2/20/18.

Docket Numbers: ER18-730-000.

Applicants: Linden VFT, LLC.

Description: Application for Amendment of Existing Authority to Make Sales of Transmission Rights at Negotiated Rates of Linden VFT, LLC.

Filed Date: 1/29/18.

Accession Number: 20180129-5356.

Comments Due: 5 p.m. ET 2/20/18.

Docket Numbers: ER18-731-000.

Applicants: Midcontinent Independent System Operator, Inc.

Description: § 205(d) Rate Filing: 2018-01-30 Annual Schedule 31 Update to be effective 4/1/2018.

Filed Date: 1/30/18.

Accession Number: 20180130-5093.

Comments Due: 5 p.m. ET 2/20/18.

Docket Numbers: ER18-732-000.

Applicants: Entergy Louisiana, LLC.

Description: Notice of Cancellation of Perryville Interconnection and Service Charge Agreement of Entergy Louisiana, Inc.

Filed Date: 1/30/18.

Accession Number: 20180130-5122.

Comments Due: 5 p.m. ET 2/20/18.

Docket Numbers: ER18-733-000.

Applicants: Alabama Power Company.

Description: § 205(d) Rate Filing: City of Evergreen NITSA Filing to be effective 1/1/2018.

Filed Date: 1/30/18.

Accession Number: 20180130-5130.

Comments Due: 5 p.m. ET 2/20/18.

Docket Numbers: ER18-734-000.

Applicants: Frenchtown III Solar, LLC.

Description: Baseline eTariff Filing: Frenchtown III Reactive Service Filing to be effective 4/1/2018.

Filed Date: 1/30/18.

Accession Number: 20180130-5132.

Comments Due: 5 p.m. ET 2/20/18.

Docket Numbers: ER18-735-000.

Applicants: Alabama Power Company.

Description: Tariff Cancellation: SWE (Evergreen) NITSA Termination Filing to be effective 12/31/2017.

Filed Date: 1/30/18.

Accession Number: 20180130-5133.

Comments Due: 5 p.m. ET 2/20/18.

Docket Numbers: ER18-736-000.

Applicants: Southwest Power Pool, Inc.

Description: § 205(d) Rate Filing: Revisions to Update Attachment AF—Frequently Constrained Areas to be effective 4/1/2018.

Filed Date: 1/30/18.

Accession Number: 20180130-5134.

Comments Due: 5 p.m. ET 2/20/18.

Docket Numbers: ER18-737-000.

Applicants: Alabama Power Company.

Description: § 205(d) Rate Filing: City of Hartford NITSA Filing to be effective 1/1/2018.

Filed Date: 1/30/18.

Accession Number: 20180130-5136.

Comments Due: 5 p.m. ET 2/20/18.

Docket Numbers: ER18-738-000.

Applicants: Alabama Power Company.

Description: Tariff Cancellation: SWE (Hartford) NITSA Termination Filing to be effective 12/31/2017.

Filed Date: 1/30/18.

Accession Number: 20180130-5139.

Comments Due: 5 p.m. ET 2/20/18.

Docket Numbers: ER18-739-000.

Applicants: Alabama Power Company.

Description: § 205(d) Rate Filing: City of Robertsdale NITSA Filing to be effective 1/1/2018.

Filed Date: 1/30/18.

Accession Number: 20180130-5140.

Comments Due: 5 p.m. ET 2/20/18.

Docket Numbers: ER18-740-000.

Applicants: Alabama Power Company.

Description: Tariff Cancellation: SWE (Robertsdale) NITSA Termination Filing to be effective 12/31/2017.

Filed Date: 1/30/18.

Accession Number: 20180130-5141.

Comments Due: 5 p.m. ET 2/20/18.

Docket Numbers: ER18-741-000.

Applicants: Alabama Power Company.

Description: § 205(d) Rate Filing: SWE (Black Warrior) NITSA Rollover Filing to be effective 1/1/2018.

Filed Date: 1/30/18.

Accession Number: 20180130-5143.

Comments Due: 5 p.m. ET 2/20/18.

Docket Numbers: ER18-742-000.

Applicants: Alabama Power Company.

Description: § 205(d) Rate Filing: SWE (Tombigbee) NITSA Rollover Filing to be effective 1/1/2018.

Filed Date: 1/30/18.

Accession Number: 20180130-5144.

Comments Due: 5 p.m. ET 2/20/18.

Docket Numbers: ER18-743-000.

Applicants: Alabama Power Company.

Description: § 205(d) Rate Filing: City of Troy NITSA and NOA Filing to be effective 1/1/2018.

Filed Date: 1/30/18.

Accession Number: 20180130-5146.

Comments Due: 5 p.m. ET 2/20/18.

Docket Numbers: ER18-744-000.

Applicants: Alabama Power Company.

Description: § 205(d) Rate Filing: PowerSouth NITSA Amendments Filing (Add Wallsboro and Park Crossing DPs) to be effective 1/1/2018.

Filed Date: 1/30/18.

Accession Number: 20180130-5147.

Comments Due: 5 p.m. ET 2/20/18.

Docket Numbers: ER18-745-000.

Applicants: ISO New England Inc., Eversource Energy Service Company.

Description: § 205(d) Rate Filing: ISO-NE and Eversource—Original Service Agreement .0Under Schedule 21-ES to be effective 1/1/2018.

Filed Date: 1/30/18.

Accession Number: 20180130-5165.

Comments Due: 5 p.m. ET 2/20/18.

Docket Numbers: ER18-746-000.

Applicants: Northern Indiana Public Service Company.

Description: § 205(d) Rate Filing: WVPA IA, Recloser Replacements CIAC (2018) to be effective 1/31/2018.

Filed Date: 1/30/18.

Accession Number: 20180130-5178.

Comments Due: 5 p.m. ET 2/20/18.

Docket Numbers: ER18-747-000.

Applicants: Imperial Valley Solar 3, LLC.

Description: Baseline eTariff Filing: Imperial Valley Solar 3, LLC Co Tenancy Agreement to be effective 1/31/2018.

Filed Date: 1/30/18.

Accession Number: 20180130-5181.

Comments Due: 5 p.m. ET 2/20/18.

Take notice that the Commission received the following electric securities filings:

Docket Numbers: ES18-22-000.

Applicants: AEP Texas Inc.

Description: Application Under Section 204 of the Federal Power Act for Authorization to Issue Securities of AEP Texas Inc.

Filed Date: 1/30/18.

Accession Number: 20180130-5253.

Comments Due: 5 p.m. ET 2/20/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 30, 2018.
Nathaniel J. Davis, Sr.,
Deputy Secretary.

[FR Doc. 2018-02226 Filed 2-2-18; 8:45 am]

BILLING CODE 6717-01-P